AGENCY FOR INTERNATIONAL DEVELOPMENT

Privacy Act of 1974; System of Records

AGENCY: United States Agency for International Development.

ACTION: New system of records.

SUMMARY: Pursuant to the Privacy Act, 5 U.S.C. 552a, the United States Agency for International Development (USAID) is issuing public notice for a new system of records entitled, “USAID-34 Personal Services Contracts Records”. This action is necessary to meet the requirements of the Privacy Act, 5 U.S.C. 522a(e)(4), to publish in the Federal Register notice of the existence and character of record systems maintained by the agency.

DATES: In accordance with 5 U.S.C. 522a(e)(4) and (11), the public is given a 30-day period in which to comment. Therefore, any comments must be received on or before April 2, 2015. Unless comments are received that would require a revision, this new system of records will become effective on April 2, 2015.

ADDRESSES: You may submit comments:

Electronic

• Federal eRulemaking Portal: http://www.regulations.gov. Follow the instructions on the Web site for submitting comments.

• Email: privacy@usaid.gov.

Paper

• Fax: (703) 666-5670.

• Mail: Chief Privacy Officer, United States Agency for International Development, 1300 Pennsylvania Avenue NW., Washington, DC 20523.

FOR FURTHER INFORMATION CONTACT: The USAID Privacy Office at United States Agency for International Development, Bureau for Management, Office of the Chief Information Officer, Information Assurance Division, 1300 Pennsylvania Avenue NW., Washington, DC 20523; or via email at privacy@usaid.gov.

SUPPLEMENTARY INFORMATION: USAID has recently conducted a review of systems of records notices and has determined that a new system of records “USAID-34 Personal Services Contracts Records” is needed to document records created during the development, operation, and conclusion of personal services contracts by USAID. A personal services contract creates an employer-employee relationship between USAID and the contractor, requires continuous monitoring of the contractor by USAID, and must be specifically authorized by a statute applicable to USAID. The new USAID-34 Personal Services Contracts Records will read as set forth below.

Dated: February 5, 2015.
William Morgan,
Chief Privacy Officer, United States Agency for International Development.

USAID-34

SYSTEM NAME:

Personal Services Contracts Records.

SYSTEM LOCATION:

United States Agency for International Development (USAID), 1300 Pennsylvania Avenue NW., Washington, DC 20523; Terremark, 50 NE 9th Street, Miami, FL 33132; U.S. Department of State COOP Beltsville (BIMC), 8101 Odell Road, Floor/Room—173, Beltsville, MD 20705; U.S. Department of State, Global Financial Service Center (GFSC—DoS), 1969 Dyess Ave., Building A, Computer Room 2A228, Charleston, SC 29405; and other USAID offices in the United States and throughout the world that have personal services contractor hiring authority.

CATEGORIES OF INDIVIDUALS IN THE SYSTEM:

The system encompasses all individuals who are personal services contractors with USAID.

CATEGORIES OF RECORDS IN THE SYSTEM:

This system consists of records created or compiled for contract actions related to personal services contractors, including personal services contractor files and contract documents. A personal services contractor file includes name, Social Security Number, address, citizenship, resume, education, professional experience, other qualifications, Selective Service registration data, language proficiencies, licenses and certifications, clearance level, salary, direct-deposit financial information, contract number, position title, travel availability, training received, assignments, position number, applicable medical clearances, and performance evaluations. Contract documents include applications, salary worksheet computations, statements of work, qualifications approval memoranda, final offer letters, contract, performance evaluations, correspondence, advanced leave requests, training certifications, release forms, and out-processing checklists.

AUTHORITY FOR MAINTENANCE OF SYSTEM OF RECORDS:

The system was established and is maintained pursuant to the Foreign Assistance Act, Public Law 87-165, as amended; 48 CFR 37.104, Personal services contracts; 48 CFR Ch. 7, App. D, Direct USAID Contracts with a U.S. Citizen or a U.S. Resident Alien for Personal Services Abroad.

PURPOSE(S):

The records are collected, used, maintained, and disseminated for the purposes of documenting personal services contracts processing, including personal services contracts records, pay and benefits determinations and processing, determining accountability and liability of contract parties, reports of contractor actions, and the records required in connection with the personal services contractor during the contract cycle.

ROUTINE USES OF RECORDS MAINTAINED IN THE SYSTEM, INCLUDING CATEGORIES OF USERS AND PURPOSEs OF SUCH USE:

In addition to those disclosures generally permitted under 5 U.S.C. 552a(b), all or a portion of the records contained in this system of records may be disclosed outside USAID as a routine use pursuant to 5 U.S.C. 552a(b)(3) as follows:

(1) To the Internal Revenue Service and the Social Security Administration for the purposes of reporting earnings information.

(2) To a court, magistrate, or other administrative body in the course of presenting evidence, including disclosures to counsel or witnesses in the course of civil discovery, litigation, or settlement negotiations or in connection with criminal proceedings, when USAID is a party to the proceeding or has a significant interest in the proceeding, to the extent that the information is determined to be relevant and necessary.

(3) To the Department of Justice or other appropriate Federal Government agency when the records are arguably relevant to a proceeding in a court or other tribunal in which USAID or a USAID official in his or her official capacity is a party or has an interest, or when the litigation is likely to affect USAID.

(4) To a Federal Government agency or entity that furnished the record or information for the purposes of permitting that agency or entity to make a decision as to access to or correction of the record or information.

(5) In the event of an indication of a violation or potential violation of law, whether civil, criminal or regulatory in nature, and whether arising by statute or particular program pursuant thereto, to the appropriate agency, whether federal, state, local or foreign, charged with the responsibility of investigating or prosecuting such violation or charged with enforcing or implementing the statute, or rule, regulation, or order issued pursuant thereto.

(6) To the Department of State and its posts abroad for the purposes of transmission of information between organizational units of the Agency, or for the purposes related to the responsibilities of the Department of State in conducting United States foreign policy or protecting United States citizens, such as the assignment of employees to positions abroad, the reporting of accidents abroad, evacuation of employees and dependents, and for other purposes for which officers and employees of the Department of State have a need for the records in the performance of their duties.

(7) To a foreign government or international agency in response to its request for information to facilitate the conduct of U.S. relations with that government or agency through the issuance of such documents as visas, country clearances, identification cards, drivers' licenses, diplomatic lists, licenses to import or export personal effects, and other official documents and permits routinely required in connection with the official service or travel abroad of the individual and his or her dependents.

(8) To Federal agencies with which USAID has entered into an agreement to provide services to assist USAID in carrying out its functions under the Foreign Assistance Act of 1961, as amended. Such disclosures would be for the purpose of transmission of information between organizational units of USAID; of providing to the original employing agency information concerning the services of its employee while under the supervision of USAID, including performance evaluations, reports of conduct, awards and commendations, and information normally obtained in the course of personnel administration and employee supervision; or of providing other information directly related to the purposes of the inter-agency agreement as set forth therein, and necessary and relevant to its implementation.

(9) To appropriate officials and employees of a Federal Government agency or entity when the information is relevant to a decision concerning the hiring, appointment, or retention of an employee; the assignment, detail or deployment of an employee; the issuance, renewal, suspension, or revocation of a security clearance; the execution of a security or suitability investigation; the letting of a contract; or the issuance of a grant or benefit.

(10) To the National Archives and Records Administration, Information Security Oversight Office, Interagency Security Classification Appeals Panel, for the purposes of adjudicating an appeal from a USAID denial of a request for mandatory declassification review of records, made under the applicable executive order(s) governing classification.

(11) To the National Archives and Records Administration for the purposes of records management inspections conducted under the authority of 44 U.S.C. 2904 and 2906.

(12) To appropriate agencies, entities, and persons when (1) USAID suspects or has confirmed that the security or confidentiality of information in the system of records has been compromised; (2) USAID has determined that as a result of the suspected or confirmed compromise there is a risk of harm to economic or property interests, identity theft or fraud, or harm to the security or integrity of this system or other systems or programs (whether maintained by the USAID or another agency, entity, or person) that rely upon the compromised information; and (3) the disclosure made to such agencies, entities, and persons is reasonably necessary to assist in connection with USAID's efforts to respond to the suspected or confirmed compromise and prevent, minimize, or remedy such harm.

(13) To a Federal, State, or local agency maintaining civil, criminal, or other relevant enforcement information or other pertinent information, or to private individuals, for the purposes of requesting information relevant to a USAID decision concerning the hiring, retention, or promotion of a personal services contractor, the issuance of a security clearance, or other decision within the purposes of this system of records.

(14) To a prospective employer of a current or former USAID personal services contractor for the purposes of providing the following information to prospective employers: Job descriptions, dates of contract, and reason for termination of contract.

(15) To appropriate agencies, entities, and persons for the purposes of confirming the qualifications of an applicant for the award of a personal services contract.

POLICIES AND PRACTICES FOR STORING, RETRIEVING, ACCESSING, RETAINING, AND DISPOSING OF RECORDS IN THE SYSTEM:

STORAGE:

Records in this system are stored on paper and/or electronic form; and are maintained in locked cabinets and/or user-authenticated, password-protected systems.

RETRIEVABILITY:

Records are retrieved by the name of the personal services contractor and the contract number.

SAFEGUARDS:

Information in this system is safeguarded in accordance with applicable laws, rules and policies, including the agency's automated directive system. In general, records and technical equipment are maintained in buildings with restricted access. The required use of password protection identification features and other system protection methods also restrict access. Paper records and Sensitive But Unclassified records are kept in an approved security container at the USAID Washington headquarters, and at the relevant locations where USAID has a program. The electronic records are stored in the Agency Secure Image and Storage Tracking (ASIST) or other document management systems, which are safeguarded in accordance with applicable laws, rules, and policies, including USAID's automated systems security and access policies. Access to the records is restricted to those authorized USAID personnel and authorized contractors who have an official need to access the records in the performance of their official duties.

RETENTION AND DISPOSAL:

Records are retained and disposed of in accordance with the Federal Acquisition Regulations and/or the National Archives Records Administration's General Records Disposition Schedules, and the agency's approved disposition schedules.

SYSTEM MANAGER(S) AND ADDRESS:

USAID Contracting Officers or Heads of Contracting Activities, United States Agency for International Development, 1300 Pennsylvania Avenue NW., Washington, DC 20523; and USAID Missions throughout the world.

NOTIFICATION PROCEDURE:

Same as Record Access Procedures.

RECORDS ACCESS PROCEDURES:

Under the Privacy Act, individuals may request access to records about themselves. If an agency or a person, who is not the individual who is the subject of the records, requests access to records about an individual, the written consent of the individual who is the subject of the records is required.

Requesters may submit requests for records under the Privacy Act: (1) By mail to the USAID FOIA Office, Bureau for Management, Office of Management Services, Information and Records Division, 1300 Pennsylvania Avenue NW., Room 2.07C-RRB, Washington, DC 20523-2701; (2) via Facsimile to 202-216-3070; (3) via email to foia@usaid.gov; (4) on the USAID Web site at www.usaid.gov/foia-requests; or (5) in person during regular business hours at USAID, 1300 Pennsylvania Avenue NW., Washington, DC 20523-2701, or at USAID overseas missions.

Requesters using 1 through 4 may provide a written statement or may complete and submit USAID Form 507-1, Freedom of Information/Privacy Act Record Request Form, which can be obtained: (a) On the USAID Web site at www.usaid.gov/foia-requests; (b) by email request to foia@usaid.gov; or (c) by writing to the USAID FOIA Office, Bureau for Management, Office of Management Services, Information and Records Division, 1300 Pennsylvania Avenue NW., Room 2.07C-RRB, Washington, DC 20523-2701, and provide information that is necessary to identify the records, including the following: Requester's full name; present mailing address; home telephone; work telephone; name of subject, if other than requester; requester relationship to subject; description of type of information or specific records; and purpose of requesting information. Requesters should provide the system of record identification name and number, if known; and, to facilitate the retrieval of records contained in those systems of records which are retrieved by Social Security Numbers, the Social Security Number of the individual to whom the record pertains.

In addition, requesters using 1 through 4 must include proof of identity information by providing copies of two (2) source documents that must be notarized by a valid (un-expired) notary public. Acceptable proof-of-identity source documents include: An unexpired United States passport; Social Security Card (both sides); unexpired United States Government employee identity card; unexpired driver's license or identification card issued by a state or United States possession, provided that it contain a photograph; certificate of United States citizenship; certificate of naturalization; card showing permanent residence in the United States; United States alien registration receipt card with photograph; United States military card or draft record; or United States military dependent's identification card.

Requesters using 1 through 4 must also provide a signed and notarized statement that they are the person named in the request; that they understand that any falsification of their statement is punishable under the provision of 18 U.S.C. 1001 by a fine, or by imprisonment of not more than five years or, if the offense involves international or domestic terrorism (as defined in section 2331), imprisonment of not more than eight years, or both; and that requesting or obtaining records under false pretenses is punishable under the provisions of 5 U.S.C. 552a(i)(3) as a misdemeanor and by a fine of not more than $5,000.

Requesters using 5 must provide such personal identification as is reasonable under the circumstances to verify the requester's identity, including the following: An unexpired United States passport; Social Security Card; unexpired United States Government employee identity card; unexpired driver's license or identification card issued by a state or United States possession, provided that it contain a photograph; certificate of United States citizenship; certificate of naturalization; card showing permanent residence in the United States; United States alien registration receipt card with photograph; United States military card or draft record; or United States military dependent's identification card.

CONTESTING RECORDS PROCEDURES:

Individuals seeking to contest or amend records maintained on himself or herself must clearly and concisely state that information is being contested, and the proposed amendment to the information sought. Requests to amend a record must follow the Record Access Procedures above.

RECORDS SOURCE CATEGORIES:

These records contain information directly from the individuals who are the subject of these records; as well as from contracting officers and contracting officers' representatives in USAID bureaus and missions, and Office of Human Resources employees.

EXEMPTIONS CLAIMED FOR THE SYSTEM:

Pursuant to 5 U.S.C. 552a(k)(5) and as specified in 22 CFR 215.14(a)(5) and (c)(5), certain records in this system of records are exempt from the following provisions of the Privacy Act: 5 U.S.C. 552a(c)(3); (d); (e)(1); (e)(4)(G); (H); (I); and (f).

[FR Doc. 2015-04307 Filed 3-2-15; 8:45 am]

BILLING CODE 6116-02-P